DEPARTMENT OF TRANSPORTATION

Federal Highway Administration

Environmental Impact Statement, Manatee County, FL

AGENCY: Federal Highway Administration (FHWA), DOT.

ACTION: Revised notice of intent.

SUMMARY: On November 13, 2000, the FHWA published a notice of intent in the Federal Register (Vol. 65, No. 219, pg. 67791) to prepare an environmental impact statement (EIS) for a proposed roadway/bridge project in Manatee County, Florida. Subsequent study indicated that there was very little controversy and impacts to pristine natural environment as previously anticipated. The FHWA is re-issuing this notice to advise the public that although an environmental assessment (EA) was prepared and approved, an EIS will now be prepared in response to growing public controversy.

FOR FURTHER INFORMATION CONTACT: Mr. BSB Murthy, District Transportation Engineer, Federal Highway Administration, 227 North Bronough Street, Room 2015, Tallahassee, Florida 32301-2015, Telephone (850) 942-9650, Ext. 3032.

SUPPLEMENTARY INFORMATION: The FHWA, in consultation with the Florida Department of Transportation, will prepare an EIS for a proposal to improve regional traffic circulation in the rapidly developing portion of eastern Manatee County. The EIS will examine a study area bounded by State Road (SR) 64 to the south, Rye Road to the east, CR 675 and U.S. 301 to the north and I-75 to the west. The proposed project will include improvements to Upper Manatee River Road and Fort Hamer Road, and provide a new bridge connection across the Upper Manatee River south of the community of Parrish in Manatee County, Florida. The project limits extend a distance of approximately 7.0 miles from SR 64 on the south to U.S. 301 on the north.

This project is commonly referred to as the Upper Manatee River Project Development and Environment (PD&E) Study. This project has been identified as a high priority by the Sarasota/Manatee Metropolitan Planning Organization and is needed to accommodate future growth and to serve as an additional hurricane evacuation route.

An EA was previously completed for the project and signed on September 6, 2002. After the identification and analysis of numerous corridors, alternatives and locations, the EA study recommended two through lanes in each direction along the existing Upper Manatee River Road/Fort Hamer Road corridor and a new four-lane bridge across the Manatee River. During the EA study, the proposed project generated significant controversy among residents within the study area. As a result, an EIS is now being prepared and will consider all reasonable alternatives, as well as a no-build alternative.

Letters describing the proposed action and soliciting comments will be sent to appropriate Federal, State, and local agencies, and to private organizations and citizens who have expressed interest in this proposal. Public meetings will be held between January and November 2004. In addition, a Public Hearing will be held in the study area. Public notice will be given of the time and place of the meetings and hearing. The Draft EIS will be made available for public and agency review and comment. No formal scoping meeting is planned at this time.

To ensure that the full range of issues related to the proposed action is addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program)
Issued on: January 14, 2004.
BSB Murthy,
District Transportation Engineer, Tallahassee, Florida.

[FR Doc. 04-1223 Filed 1-20-04; 8:45 am]

BILLING CODE 4910-22-M